DEPARTMENT OF TRANSPORTATION

Federal Aviation Administration

14 CFR Part 39

[Docket No. FAA-2016-9055; Directorate Identifier 2016-NM-071-AD]

RIN 2120-AA64

Airworthiness Directives; Airbus Airplanes

AGENCY: Federal Aviation Administration (FAA), DOT.

ACTION: Supplemental notice of proposed rulemaking (SNPRM); reopening of comment period.

SUMMARY: We are revising an earlier proposal for certain Airbus Model A300 B4-600R series airplanes, Model A300 C4-605R Variant F airplanes, and Model A300 F4-600R series airplanes. This action revises the notice of proposed rulemaking (NPRM) by extending the area to be inspected for cracking. This SNPRM also proposes to require an additional inspection for previously inspected airplanes. We are proposing this airworthiness directive (AD) to address the unsafe condition on these products. Since these actions impose an additional burden over those proposed in the NPRM, we are reopening the comment period to allow the public the chance to comment on these proposed changes.

DATES: The comment period for the NPRM published in the Federal Register on September 8, 2016 (81 FR 62026), is reopened.

We must receive comments on this SNPRM by April 17, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this SNPRM, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-9055; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2016-9055; Directorate Identifier 2016-NM-071-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued a notice of proposed rulemaking (NPRM) to amend 14 CFR part 39 by adding an AD that would apply to certain Airbus Model A300 B4-600R series airplanes, Model A300 C4-605R Variant F airplanes, and Model A300 F4-600R series airplanes. The NPRM published in the Federal Register on September 8, 2016 (81 FR 62026). The NPRM was prompted by the results of a full stress analysis of the lower area of frame (FR) 40 that revealed a crack could occur in the forward fitting lower radius of FR 40 after a certain number of flight cycles. The NPRM proposed to require an inspection of the lower area of the FR 40 radius for cracking, and corrective action if necessary.

Actions Since the NPRM Was Issued

Since we issued the NPRM, we have determined that the area to be inspected for cracking in the lower area of the FR 40 radius should be extended. We have also determined that an additional inspection is necessary for airplanes previously inspected. In addition, the European Aviation Safety Agency (EASA), which is the Technical Agent for the Member States of the European Union, issued EASA AD 2016-0179, dated September 12, 2016 (referred to after this as the Mandatory Continuing Airworthiness Information, or “the MCAI”), which supersedes EASA AD 2016-0085, dated April 28, 2016. EASA AD 2016-0085 was the MCAI referred to in the NPRM.

The MCAI was issued to correct an unsafe condition for certain Airbus Model A300 B4-600R series airplanes, Model A300 C4-605R Variant F airplanes, and Model A300 F4-600R series airplanes. The MCAI states:

Following a full stress analysis of the Frame (FR) 40 lower area, supported by a Finite Element Model (FEM), of the post-mod 10221 configuration, it was demonstrated that, for the FR40 forward fitting lower radius, a crack could occur after a certain amount of flight cycles (FC).

This condition, if not detected and corrected, could reduce the structural integrity of the fuselage.

To address this potential unsafe condition, Airbus established that crack detection could be achieved through a special detailed inspection (SDI) using a high frequency eddy current (HFEC) method, and issued Alert Operators Transmission (AOT) A57W009-16 to provide those inspection instructions.

Consequently, EASA issued AD 2016-0085 to require a one-time SDI of the FR40 lower area and, depending on findings, accomplishment of applicable corrective action(s).

Since that [EASA] AD was issued, further cracks were detected, originating from the fastener hole, and, based on these findings, it was determined that inspection area must be enlarged, and Airbus AOT A57W009-16 Revision (Rev.) 01 was issued accordingly.

For the reasons described above, this [EASA] AD retains the requirements of EASA AD 2016-0085, which is superseded, extends the area of inspection, and requires an additional inspection for aeroplanes previously inspected.

The one-time SDI for high cycle aeroplanes is intended to mitigate the highest risks within the fleet. Airbus is currently developing instructions for repetitive inspections that are likely to be the subject of further [EASA] AD action.

You may examine the MCAI in the AD docket on the Internet at http://www.regulations.gov by searching for and locating Docket No. FAA-2016-9055.

Related Service Information Under 1 CFR Part 51

Airbus has issued Alert Operators Transmission (AOT) A57W009-16, Rev 01, including Appendices 1 and 2, dated July 13, 2016 (“AOT A57W009-16, Rev 01”). The service information describes procedures for inspecting the forward fitting lower radius of FR 40 for cracking, and corrective action. This service information is reasonably available because the interested parties have access to it through their normal course of business or by the means identified in the ADDRESSES section.

Comments

We gave the public the opportunity to participate in developing this proposed AD. We considered the comments received.

Support for the NPRM

One commenter, Joseph Luna, supported the intent of the NPRM.

Request To Refer to Revised MCAI and Service Information

Airbus requested that the NPRM be revised to specify new MCAI and revised service information. Airbus noted that, after the NPRM was published, the service information and the MCAI referred to in the NPRM were revised. Airbus explained that Airbus AOT A57W009-16, Rev 00, dated February 25, 2016 (“AOT A57W009-16, Rev 00”), was revised to extend the area of inspection, and AOT A57W009-16, Rev 01, was published to include that information. Airbus also pointed out that, after the NPRM was published, EASA superseded EASA AD 2016-0085, dated April 28, 2016, and issued EASA AD 2016-0179, dated September 12, 2016, which extends the area of inspection and requires an additional action for airplanes previously inspected.

We agree with the commenter's request. We have revised this proposed AD to refer to AOT A57W009-16, Rev 01, as the appropriate source of service information for completing the proposed actions. We have also included a one-time additional inspection for airplanes on which the proposed inspection in paragraph (g) of this proposed AD was accomplished using the procedures in AOT A57W009-16, Rev 00. In addition, we added credit for the proposed inspection specified in paragraph (g) of this proposed AD, if that action was done before the effective date of the AD using the procedures in AOT A57W009-16, Rev 00, provided the proposed inspection specified in paragraph (h) of this proposed AD is accomplished. In addition, we revised the preamble and paragraph (m)(1) of this proposed AD to refer to the current EASA AD: AD 2016-0179, dated September 12, 2016.

Request To Delay Issuance of Final Rule

United Parcel Service (UPS) requested that we delay issuance of the final rule until Airbus issues an inspection service bulletin that will specify the same actions described in AOT A57W009-16, Rev 00, and might include repetitive inspections that are not in AOT A57W009-16, Rev 00. UPS stated that Airbus has committed to issue the inspection service bulletin within the 4th quarter of 2016, and the service bulletin will supersede AOT A57W009-16, Rev 00. UPS suggested that, to reduce the issuance of subsequent alternative method of compliance (AMOC) requests and additional proposed rules, the final rule should be delayed until the Airbus inspection service bulletin is released. UPS noted that the areas to be inspected are currently included in another Airbus service bulletin and other regulations, based on an airplane's modification status. UPS stated that its fleet of airplanes affected by the NPRM is below the initial threshold, so there would not be an impact to the safety of its current fleet. UPS anticipated that the first inspection for its affected airplanes would not take place until 2025.

We do not agree with the commenter's request to delay issuance of a final rule until the Airbus inspection service bulletin is issued. As previously mentioned, after the issuance of the NPRM, Airbus revised AOT A57W009-16, Rev 00, to include an extended area of inspection, and we have revised this proposed AD to refer to the revised AOT (AOT A57W009-16, Rev 01). AOT A57W009-16, Rev 01, contains all of the necessary information to address the identified unsafe condition. When repetitive inspections are developed and related service information is available we will consider if additional rulemaking is necessary to mandate those actions.

In addition, although UPS may have time before the airplanes in its fleet are required to be inspected, other operators might have airplanes that have accumulated total flight cycles that are close to the threshold for the proposed initial inspection.

Request To Specify Actions Required for Compliance (“RC”)

UPS requested that paragraph (g) of the proposed AD (in the NPRM) be revised to specify that the required actions are to be accomplished in accordance with “paragraph 4.2.2” of AOT A57W009-16, Rev 00, instead of “the procedures” in AOT A57W009-16, Rev 00. UPS stated that, as written, paragraph (g) of the proposed AD would require operators to accomplish all of the actions in AOT A57W009-16, Rev 00, but it is specifically the actions in paragraph 4.2.2 of AOT A57W009-16, Rev 00, that address the unsafe condition. UPS noted that Airbus Service Bulletin A300-57-6115 specifies the identical location, access, and inspection procedures as AOT A57W009-16, Rev 00, but that service bulletin identifies which actions are “Required for Compliance” (“RC”). To be in compliance with an AD, operators must accomplish all of the actions identified as “RC” in the service information that is required by an AD. The actions that are not identified as “RC” in the required service information are classified as recommended for compliance.

We agree with the commenter's request and have revised paragraphs (g) and (h) of this proposed AD to refer to the actions in paragraph 4.2.2 of the Airbus AOT, which are the actions required for compliance. As previously mentioned, we have revised this SNPRM to refer to AOT A57W009-16, Rev 01, which was issued after the NPRM was published. We note that this AOT does not include standard “RC” language.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the NPRM. As a result, we have determined that it is necessary to reopen the comment period to provide additional opportunity for the public to comment on this SNPRM.

Costs of Compliance

We estimate that this proposed AD affects 94 airplanes of U.S. registry.

We estimate the following costs to comply with this proposed AD:

Estimated Costs
Action | Labor cost | Parts cost | Cost per product | Cost on U.S. operators
Inspection | 3 work-hours × $85 per hour = $255 | $0 | $255 | $23,970
Report | 1 work-hour × $85 per hour = $85 | 0 | 85 | 7,990

We have received no definitive data that would enable us to provide cost estimates for the on-condition actions specified in this proposed AD.

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2016-9055; Directorate Identifier 2016-NM-071-AD.

(a) Comments Due Date

We must receive comments by April 17, 2017.

(b) Affected ADs

None.

(c) Applicability

This AD applies to Airbus airplanes, certificated in any category, identified in paragraphs (c)(1), (c)(2), and (c)(3) of this AD, on which Airbus Modification 10221 was embodied in production.

(1) Airbus Model A300 B4-605R and B4-622R airplanes.

(2) Airbus Model A300 C4-605R Variant F airplanes.

(3) Airbus Model A300 F4-605R and F4-622R airplanes.

(d) Subject

Air Transport Association (ATA) of America Code 57, Wings.

(e) Reason

This AD was prompted by the detection of cracking that originated from the fastener holes in the forward fitting lower radius of frame (FR) 40. We are issuing this AD to detect and correct cracking in the forward fitting lower radius of FR 40. Such cracking could reduce the structural integrity of the fuselage.

(f) Compliance

Comply with this AD within the compliance times specified, unless already done.

(g) Inspection

At the later of the compliance times specified in paragraphs (g)(1) and (g)(2) of this AD, do a high frequency eddy current (HFEC) inspection of the lower area of the FR 40 radius for cracking, in accordance with paragraph 4.2.2 in Airbus Alert Operators Transmission (AOT) A57W009-16, Rev 01, including Appendices 1 and 2, dated July 13, 2016.

(1) Prior to exceeding 19,000 total flight cycles or 41,000 total flight hours since the airplane's first flight, whichever occurs first.

(2) Within 300 flight cycles or 630 flight hours after the effective date of this AD, whichever occurs first.

(h) Additional Inspection for Previously Inspected Airplanes

For airplanes on which the HFEC inspection required by paragraph (g) of this AD was accomplished before the effective date of this AD using the procedures in Airbus AOT A57W009-16, Rev 00, including Appendices 1 and 2, dated February 25, 2016: Within 300 flight cycles or 630 flight hours after the effective date of this AD, whichever occurs first, do a one-time additional HFEC inspection of the lower area of the FR 40 radius for cracking, in accordance with paragraph 4.2.2 in Airbus AOT A57W009-16, Rev 01, including Appendices 1 and 2, dated July 13, 2016.

(i) Corrective Action

If any crack is found during the inspection required by paragraph (g) or (h) of this AD: Before further flight, do the applicable corrective actions in accordance with the procedures in Airbus AOT A57W009-16, Rev 01, including Appendices 1 and 2, dated July 13, 2016. Where AOT A57W009-16, Rev 01, including Appendices 1 and 2, dated July 13, 2016, specifies to contact Airbus for appropriate action, accomplish the corrective actions in accordance with the procedures specified in paragraph (l)(2) of this AD.

(j) Reporting Requirement

Submit a report of all findings (both positive and negative) from the inspection required by paragraph (g) of this AD to Airbus Customer Services through TechRequest on Airbus World (https://w3.airbus.com/) by selecting Engineering Domain and ATA 57-10.

(1) For airplanes on which the inspection specified in paragraph (g) of this AD is accomplished on or after the effective date of this AD: Submit the report within 30 days after performing the inspection.

(2) For airplanes on which the inspection specified in paragraph (g) of this AD is accomplished before the effective date of this AD: Submit the report within 30 days after the effective date of this AD.

(k) Credit for Previous Actions

This paragraph provides credit for the action required by paragraph (g) of this AD, if that action was done before the effective date of this AD using Airbus AOT A57W009-16, Rev 00, including Appendices 1 and 2, dated February 25, 2016, provided the inspection required by paragraph (h) of this AD is accomplished.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(m) Related Information

(1) Refer to Mandatory Continuing Airworthiness Information (MCAI) EASA Airworthiness Directive 2016-0179, dated September 12, 2016, for related information. This MCAI may be found in the AD docket on the Internet at http://www.regulations.gov by searching for and locating Docket No. FAA-2016-9055.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on February 16, 2017.
Thomas Groves,
Acting Manager, Transport Airplane Directorate, Aircraft Certification Service.

[FR Doc. 2017-03953 Filed 3-1-17; 8:45 am]

BILLING CODE 4910-13-P